DEPARTMENT OF HEALTH AND HUMAN SERVICES

Food and Drug Administration

[Docket No. FDA-2023-N-0155]

Agency Information Collection Activities; Submission for Office of Management and Budget Review; Comment Request; Quantitative Research on Front of Package Labeling on Packaged Foods; Reopening of the Comment Period

AGENCY: Food and Drug Administration, Department of Health and Human Services (HHS).

ACTION: Notice; reopening of the comment period.

SUMMARY: The Food and Drug Administration (FDA or we) is reopening the comment period for the notice entitled “Agency Information Collection Activities; Submission for Office of Management and Budget Review; Comment Request; Quantitative Research on Front of Package Labeling on Packaged Foods,” published in the Federal Register of June 15, 2023, to allow interested parties additional time to submit comments. We are taking this action due to technical difficulties experienced on the final two days of the comment period that may have prevented some interested parties from submitting comments.

DATES: FDA is reopening the comment period on the notice published on June 15, 2023 (88 FR 39257). Submit written comments (including recommendations) on the collection of information by 11:59 p.m. on Wednesday, July 26, 2023.

ADDRESSES: To ensure that comments on the information collection are received, OMB recommends that written comments be submitted to https://www.reginfo.gov/public/do/PRA/icrPublicCommentRequest?ref_nbr=202306-0910-004. You may also find this particular information collection at https://www.reginfo.gov/public/do/PRAMain by following these instructions: Under the header “Currently under Review Select Agency” use the drop down menu to select “Department of Health and Human Services” or by using the search function. The title of this information collection is “Quantitative Research on Front of Package Labeling on Packaged Foods.” Also include the FDA docket number found in brackets in the heading of this document.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: In the Federal Register of June 15, 2023 (88 FR 39257), FDA announced that a proposed collection of information had been submitted to the Office of Management and Budget for review and clearance under the Paperwork Reduction Act of 1995. Interested parties were originally given until July 17, 2023, to submit comments (including recommendations) on the information collection.

However, on July 16 and 17, 2023, technical difficulties may have prevented some stakeholders from submitting electronic comments. Therefore, we are reopening the comment period to allow interested parties additional time to submit comments. The reopened comment period provides an opportunity for stakeholders who may have been impacted by the technical difficulties.

Dated: July 19, 2023.
Lauren K. Roth,
Associate Commissioner for Policy.

[FR Doc. 2023-15639 Filed 7-24-23; 8:45 am]

BILLING CODE 4164-01-P